DEPARTMENT OF LABOR

Agency Information Collection Activities; Submission for OMB Review; Comment Request, Reentry Employment Opportunities Evaluation, New Collection

AGENCY: Office of the Assistant Secretary for Policy, Chief Evaluation Office, Department of Labor.

ACTION: Notice of information collection; request for comment.

SUMMARY: The Department of Labor (DOL), as part of its continuing effort to reduce paperwork and respondent burden, conducts a preclearance consultation program to provide the general public and federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents is properly assessed. Currently, DOL is soliciting comments concerning the collection of data about the Reentry Employment Opportunities (REO) Program. A copy of the proposed Information Collection Request (ICR) can be obtained by contacting the office listed in the addressee section of this notice.

DATES: Written comments must be submitted to the office listed in the addressee's section below on or before June 12, 2018.

ADDRESSES: You may submit comments by either one of the following methods: Email: ChiefEvaluationOffice@dol.gov; Mail or Courier: Jessica Lohmann, Chief Evaluation Office, OASP, U.S. Department of Labor, Room S-2312, 200 Constitution Avenue NW, Washington, DC 20210. Instructions: Please submit one copy of your comments by only one method. All submissions received must include the agency name and OMB Control Number identified above for this information collection. Comments, including any personal information provided, become a matter of public record. They will also be summarized and/or included in the request for OMB approval of the information collection request.

FOR FURTHER INFORMATION CONTACT: Jessica Lohmann by email at ChiefEvaluationOffice@dol.gov.

SUPPLEMENTARY INFORMATION:

I. Background: The information collection activities described in this notice will provide data for the Reentry Employment Opportunities (REO) program evaluation. As part of the REO program, DOL awarded $73 million in Reentry Project (RP) grants during 2017, $31 million in Reentry Demonstration Project grants during 2016, and $21 million in Training to Work grants during 2015 and 2016. DOL also is considering awarding grants during 2018. Although each grant program is distinctive, the overarching aim of the REO program is to improve employment outcomes and workforce readiness for people involved in the justice system by way of employment services, case management, and other supportive services.

The REO program evaluation will involve grantees that received grants during 2016, 2017, and/or 2018. The evaluation will involve an implementation study and an impact study. The implementation study will address four main research questions: (1) How were programs implemented and what factors influenced implementation?; (2) What are the variations in the model, structure, partnerships, and services of the REO grants?; (3) How did implementation vary by organization type (such as an intermediary organization that operates in more than one state or a community-based organization) and target population?; and (4) What key program elements appear to be promising? Research questions for the impact study include: (1) What impact do grantees or strategies implemented by grantees have on participants' outcomes, such as employment and recidivism?; (2) Does program effectiveness vary by grantee characteristics, such as population served and services offered?; and (3) To what extent do impacts vary across selected subpopulations, such as age group and type of offense?

This Federal Register Notice provides the opportunity to comment on the following proposed REO evaluation data collection instruments:

* Grantee survey. To obtain information about the REO grantees' approaches to project management, recruitment and outreach, and service delivery, we will field an electronic survey to up to 96 grantees. This survey will include questions to lead to insights about variations across grantees and grant programs and contextualize the data from the impact and implementation studies.

* Impact feasibility site visit protocols. The evaluation team will conduct up to 42 site visits with grantees and/or their subgrantees to explore the feasibility of their participating in the impact study; the visits will average no more than one day.

* Baseline information form (BIF). In sites selected for the impact study, applicants will complete a BIF before random assignment. The BIF will take about 10 minutes to complete and will collect demographics; information about education, work history and other experiences; and contact information. Whenever possible, BIFs will be collected electronically through the study's web-based system for random assignment. Data entry for each BIF will take about 10 minutes to complete. The system will then randomly assign participants and monitor the integrity of the random assignment process.

A future information collection request will include the impact study's follow-up survey, as well as phone interview protocols, site visit protocols, and virtual focus group protocols for the implementation study.

II. Desired Focus of Comments: Currently, DOL is soliciting comments concerning the above data collection for the REO Evaluation. DOL is particularly interested in comments that do the following:

• Evaluate whether the proposed collection of information is necessary for the proper performance of the functions of the agency related to employer services, including whether the information will have practical utility;

• evaluate the accuracy of the agency's estimate of the burden of the ICR to survey and fieldwork respondents, including the validity of the study approach and assumptions used;

• enhance the quality, utility, and clarity of the information to be collected; and

• minimize the burden of the information collection on respondents, including the use of appropriate automated, electronic, mechanical, or other technological collection techniques or other forms of information technology (e.g., permitting electronic submission of responses).

III. Current Actions: At this time, DOL is requesting clearance for the implementation study grantee survey; site visit protocol for the impact study feasibility assessment; and BIF to be entered into the random assignment system.

Type of Review: New information collection request.

Title: Reentry Employment Opportunities Evaluation.

OMB Control Number: 1290-0NEW.

Affected Public: REO program staff, evaluation participants, and partner agencies.

Estimated Burden Hours
Type of instrument | Total number of respondents | Annual number of respondents ᵃ | Number of responses per respondent | Average burden hour per response | Annual estimated burden hours ᵃ
Grantee Survey ᵇ | 192 | 64 | 1 | 0.17 | 11
Impact Feasibility Site Visit Protocols ᶜ | 325 | 108 | 1.68 | 1 | 182
Baseline Information Form ᵈ | 3,780 | 1,260 | 1 | 0.17 | 210
Total | 4,327 | 1,442 |  |  | 621
ᵃ All annual totals reflect a three year clearance and study data collection period.
ᵇ The number of respondents and average time per response for the grantee survey are based on an assumption that 96 grantees will take an average of 20 minutes to respond (involving 1 respondent for 10 minutes and a second respondent for 10 minutes).
ᶜ Assumes each visit will, on average, involve individual or group interviews with approximately 13 respondents (2 site administrators, 5 frontline staff, and 6 partners per site). The team anticipates completing up to 42 visits in total, with some sites being visited once and some being visited twice. The average burden time per response will be 1 hour, although some meetings will be shorter and some will be longer. To account for the fact that a subset of sites will receive two visits, the number of responses per respondent is calculated as 1.68.
ᵈ The total number of respondents is 3,780 participants who will complete the BIF. This assumes the baseline information forms (BIF) will take an average of 10 minutes for participants to complete.
ᵉ Study participants will respond to the BIF once. Each program staff will be responsible for data entering approximately 126 BIFs into the RAS. The total burden represents the sum of the participant burden across participants and program staff (3,780 participants * 1 response * .17 of an hour = 643 burden hours) + (30 program staff * 126 responses to data enter * .17 of an hour = 643 burden hours) for a grand total, with rounding,of 1,285 burden hours (which equates to approximately 428 annual burden hours per the three years of the study).

Comments submitted in response to this comment request will be summarized and/or included in the request for Office of Management and Budget approval of the information collection request; they will also become a matter of public record.

Dated: April 9, 2018.
Molly Irwin,
Chief Evaluation Officer, U.S. Department of Labor.

[FR Doc. 2018-07709 Filed 4-12-18; 8:45 am]

BILLING CODE 4510-HX-P